DEPARTMENT OF THE INTERIOR

National Park Service

[NPS-WASO-NAGPRA-NPS0027843; PPWOCRADN0-PCU00RP14.R50000]

Notice of Intent To Repatriate Cultural Items: University of San Diego, San Diego, CA

AGENCY: National Park Service, Interior.

ACTION: Notice.

SUMMARY: The University of San Diego, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the University of San Diego. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of San Diego at the address in this notice by July 3, 2019.

ADDRESSES: Dr. Derrick R. Cartwright, University of San Diego, 5998 Alcala Park, San Diego, CA 92110-8001, telephone (619) 260-7632, email dcartwright@sandiego.edu.

SUPPLEMENTARY INFORMATION: Notice is here given in accordance with the Native American Graves Protection and Repatriation Act (NAGPRA), 25 U.S.C. 3005, of the intent to repatriate cultural items under the control of the University of San Diego, San Diego, CA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between the 1950s and the 1990s, 13 cultural items were collected from sites in San Diego County, CA, possibly from Kitchen Creek, Vallecitos, or Hancock Ranch (there are no exact provenience records for these objects). These objects were part of a 1994 donation from the estate of Dorothy Zama May of La Jolla, CA, who was an avid enthusiast of American Indian cultures and traditions of the Southwest United States. The May family traveled throughout the Southwest U.S. and Southern California collecting American Indian art and other objects. The 13 objects of cultural patrimony are one set of bone whistle fragments; two stone pendants; one miniature stone pestle; one stone slab with pictograph; two stone figures; five ceramic pipes; and one stone pipe or sucking tube.

San Diego County is recognized as the aboriginal area of the people of the Kumeyaay Nation and all 13 bands of the Kumeyaay Nation were invited to consult. During consultations with representatives of the Jamul Indian Village of California of the Kumeyaay Nation, tribal members recognized these objects as having been important to their village members, and spoke of how they were used both in the past and present. They related stories of learning about objects similar to these from tribal members. These thirteen objects are likely culturally significant to all of the bands of the Kumeyaay Nation.

Determinations Made by the University of San Diego

Officials of the University of San Diego have determined that:

• Pursuant to 25 U.S.C. 3001(3)(D), the 13 cultural items described above have ongoing historical, traditional, or cultural importance central to the Native American group or culture itself, rather than property owned by an individual.

• Pursuant to 25 U.S.C. 3001(2), there is a relationship of shared group identity that can be reasonably traced between the objects of cultural patrimony and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation; hereafter referred to as “The Tribes.”

Additional Requestors and Disposition

Lineal descendants or representatives of any Indian Tribe or Native Hawaiian organization not identified in this notice that wish to claim these cultural items should submit a written request with information in support of the claim to Dr. Derrick R. Cartwright, University of San Diego, 5998 Alcala Park, San Diego, CA 92110-8001, telephone (619) 260-7632, email dcartwright@sandiego.edu, by July 3, 2019. After that date, if no additional claimants have come forward, transfer of control of the objects of cultural patrimony to The Tribes may proceed.

The University of San Diego is responsible for notifying The Tribes that this notice has been published.

Dated: May 2, 2019.
Melanie O'Brien,
Manager, National NAGPRA Program.

[FR Doc. 2019-11428 Filed 5-31-19; 8:45 am]

BILLING CODE 4312-52-P